DEPARTMENT OF COMMERCE

National Institute of Standards and Technology

[Docket No. 130212127-3580-03]

Proposed Establishment of a Federally Funded Research and Development Center-Third Notice

AGENCY: National Institute of Standards and Technology, Department of Commerce.

ACTION: Notice.

SUMMARY: The National Institute of Standards and Technology (NIST), Department of Commerce, intends to sponsor a Federally Funded Research and Development Center (FFRDC) to facilitate public-private collaboration for accelerating the widespread adoption of integrated cybersecurity tools and technologies. This is the third of three notices which must be published over a 90-day period in order to advise the public of the agency's intention to sponsor an FFRDC.

DATES: Written comments must be received by 5:00 p.m. Eastern time on July 22, 2013.

ADDRESSES: Comments on this notice must be submitted to Keith Bubar either electronically at keith.bubar@nist.gov, or at: Keith Bubar, NIST, 100 Bureau Drive Mail Stop 1640, Gaithersburg, MD 20899-1640.

FOR FURTHER INFORMATION CONTACT: Keith Bubar via email at Keith.Bubar@nist.gov or telephone 301.975.8329. Or Keith Bubar, NIST, 100 Bureau Drive Mail Stop 1640, Gaithersburg, MD 20899-1640.

SUPPLEMENTARY INFORMATION: The National Cybersecurity Center of Excellence (NCCoE), hosted by NIST, is a public-private collaboration for accelerating the widespread adoption of integrated cybersecurity tools and technologies. The NCCoE will bring together experts from industry, government and academia under one roof to develop practical, interoperable cybersecurity approaches that address the real world needs of complex Information Technology (IT) systems. By accelerating dissemination and use of these integrated tools and technologies for protecting IT assets, the NCCoE will enhance trust in U.S. IT communications, data, and storage systems, lower risk for companies and individuals in the use of IT systems, and encourage development of innovative, job-creating cybersecurity products and services.

NIST has identified the need to support the NCCoE's mission through the establishment of an FFRDC. In evaluating the need for the FFRDC, NIST determined that no existing FFRDC or contract vehicles provide the scope of services NIST requires. The proposed NCCoE FFRDC will have three primary purposes: (1) Research, Development, Engineering and Technical support; (2) Program/Project Management, to include but not limited to expert advice and guidance in the areas of program and project management focused on increasing the effectiveness and efficiency of cybersecurity applications, prototyping, demonstrations, and technical activities; and (3) Facilities Management. The proposed NCCoE FFRDC may also be utilized by non-sponsors.

The FFRDC will be established under the authority of 48 CFR 35.017.

The NCCoE FFRDC Contractor will be available to provide a wide range of support including, but not limited to:

• Research, Development, Engineering and Technical Support:

○ Establish relationships with private sector organizations to use private sector resources to accomplish tasks that are integral to the operations and mission of the NCCoE.

○ Research and develop frameworks and implementation strategies for inducing industry to invest in and expedite adoption of effective cybersecurity controls and mechanisms on an enterprise-wide scale; and in collaboration with Federal and local governments, deliver planning and documentation support needed to transfer technologies developed by Federal cybersecurity organizations and the NCCoE to production, integration, economic development, and operational implementation entities.

○ Provide systems engineering support to NCCoE programs and proposed security platform development, selection, and implementation. This will include NCCoE infrastructure, project planning, project implementation, and technology transfer components of the NCCoE's efforts to accelerate adoption of robust cybersecurity technologies in the government and private sectors.

○ Generate technical expertise to create a relevant cybersecurity workforce in coordination with the NCCoE staff and in close collaboration with the National Initiative for Cybersecurity Education and with Federal government, university, and industry participants and collaborators in NCCoE activities.

○ Deliver strategies and plans for applying cybersecurity standards, guidelines, and best practice inducements and capabilities to both government and private sectors.

• Program/Project Management:

○ Work within the purpose, mission, general scope, or competency as assigned by the sponsoring agency.

○ Develop and maintain in-depth institutional knowledge of NCCoE programs and operations in order to maintain continuity in the field of cybersecurity and to maintain a high degree of competence, objectivity, and independence in order to respond effectively to the emerging cybersecurity needs of the Nation.

• Facilities Management:

○ In coordination with NCCoE staff, and in collaboration with the State of Maryland and Montgomery County, Maryland, manage physical and logical collaborative facilities to support the acceleration and adoption of robust cybersecurity technologies in the government and private sectors. The activity includes staff support for information technology operations, custodial functions, physical access management, and maintenance operations.

The FFRDC will partner with the sponsoring agency in the design and pursuit of mission goals; provide rapid responsiveness to changing requirements for personnel in all aspects of strategic, technical and program management; recognize Government objectives as its own objectives, partner in pursuit of excellence in public service; and allow for use of the FFRDC by non-sponsors.

We are publishing this notice in accordance with 48 CFR 5.205(b) of the Federal Acquisition Regulations (FAR), to enable interested members of the public to provide comments on this proposed action. This is the third of three notices issued under the authority of 48 CFR 5.205(b). In particular, we are interested in feedback regarding the proposed scope of the work to be performed by the FFRDC, and the presence of any existing private- or public-sector capabilities in this area that NIST should be considering. NIST intends to publicly summarize and address all comments received in response to these notices.

It is anticipated that a Request for Proposal (RFP) will be posted on FedBizOpps in the summer of 2013. Alternatively, a copy of the RFP can be obtained by contacting the person listed in the FOR FURTHER INFORMATION CONTACT section above once the RFP is posted.

Dated: July 11, 2013.
Willie E. May,
Associate Director for Laboratory Programs.

[FR Doc. 2013-17025 Filed 7-15-13; 8:45 am]

BILLING CODE 3510-13-P